DEPARTMENT OF COMMERCE

International Trade Administration

[A-570-884]

Notice of Amended Final Determination of Sales at Less Than Fair Value: Certain Color Television Receivers From the People's Republic of China

AGENCY: Import Administration, International Trade Administration, Department of Commerce.

EFFECTIVE DATE: May 19, 2004.

FOR FURTHER INFORMATION CONTACT: Irina Itkin or Elizabeth Eastwood, Office of AD/CVD Enforcement, Office 2, Import Administration, International Trade Administration, U.S. Department of Commerce, 14th Street and Constitution Avenue, NW., Washington, DC 20230; telephone: (202) 482-0656 or (202) 482-3874, respectively.

Amendment to Final Determination

In accordance with sections 735(a) and 777(i)(1) of the Tariff Act of 1930, as amended, (the Act), on April 16, 2004, the Department published its notice of final determination of sales at less than fair value (LTFV) in the investigation of certain color television receivers (CTVs) from the People's Republic of China (PRC). See Notice of Final Determination of Sales at Less Than Fair Value and Negative Final Determination of Critical Circumstances: Certain Color Television Receivers From the People's Republic of China, 69 FR 20594 (Apr. 16, 2004). On April 19, 2004, we received allegations, timely filed pursuant to 19 CFR 351.224(c)(2), from Konka Group Company, Ltd. (Konka), TCL Holding Company Ltd. (TCL), and the petitioners in this investigation (i.e., Five Rivers Electronic Innovations, LLC, the International Brotherhood of Electrical Workers, and the Industrial Division of the Communications Workers of America) that the Department had made ministerial errors in its final determination. On April 26, 2004, we received two submissions containing rebuttal comments from the petitioners concerning TCL's and Konka's ministerial error allegations. In our April 27 and 29, 2003, letters, we instructed the petitioners to refile one of their submissions (i.e., the submission concerning ministerial error allegations raised by TCL) to remove untimely filed new comments. On May 3, 2004, because the petitioners did not comply with the Department's requests, we rejected the submission entirely.

After analyzing Konka's, TCL's, and the petitioners' submissions, we have determined, in accordance with 19 CFR 351.224(e), that we made the following general ministerial errors in our calculations performed for the final determination:

• We inadvertently included values associated with zero quantities in our calculation of the surrogate value for diodes;

• We inadvertently excluded certain costs from the denominators of the financial ratios calculated for each of the surrogate producers selected in this case;

• We treated packing expenses inconsistently in our calculations for the surrogate CTV producers and the PRC respondents;

• We inadvertently calculated the cost of plastic parts for Konka using plastic part consumption figures that did not correspond with the POI;

• We incorrectly tested the mark-ups charged by Konka's affiliated market-economy supplier by comparing this amount to the costs incurred by a different affiliated party;

• We inadvertently included freight costs for one of Konka's market economy inputs when the price charged was on a delivered basis;

• We inadvertently double-counted certain market-economy freight expenses for TCL; and

• We inadvertently excluded certain factor values when calculating the normal value for one of Xiamen Overseas Chinese Electronic Co., Ltd.'s (XOXECO's) products.

Correcting these errors resulted in revised margins for Sichuan Changhong Electric Co., Ltd., Konka, TCL, and XOXECO. In addition, we have revised the calculation of the all others rate accordingly.

For a detailed discussion of the ministerial errors noted above, as well as the Department's analysis, see the May 13, 2004, memorandum to Louis Apple from the Team entitled “Ministerial Error Allegations in the Final Determination of the Antidumping Duty Investigation on Certain Color Television Receivers from the People's Republic of China.”

Therefore, in accordance with 19 CFR 351.224(e), we are amending the final determination of sales at LTFV in the antidumping duty investigation of CTVs from the PRC. The revised dumping margins are as follows:

Manufacturer/exporter | Original final margin (percent) | Amended final margin (percent)
Haier Electric Appliances International Co | 21.49 | 22.94
Hisense Import and Export Co., Ltd. | 21.49 | 22.94
Konka Group Company, Ltd | 11.36 | 9.69
Philips Consumer Electronics Co. of Suzhou Ltd | 21.49 | 22.94
Shenzhen Chaungwei-RGB Electronics Co., Ltd | 21.49 | 22.94
Sichuan Changhong Electric Co., Ltd | 24.48 | 26.37
Starlight International Holdings, Ltd | 21.49 | 22.94
Star Light Electronics Co., Ltd | 21.49 | 22.94
Star Fair Electronics Co., Ltd | 21.49 | 22.94
Starlight Marketing Development Ltd. | 21.49 | 22.94
SVA Group Co., Ltd | 21.49 | 22.94
TCL Holding Company Ltd | 22.36 | 21.25
Xiamen Overseas Chinese Electronic Co., Ltd | 4.35 | 5.22
PRC-wide | 78.45 | 78.45

Continuation of Suspension of Liquidation

In accordance with section 735(c)(1)(B) of the Act, we are directing Customs and Border Protection (CBP) to continue to suspend liquidation of all entries of CTVs from the PRC. The CBP shall require a cash deposit or the posting of a bond equal to the estimated amount by which the normal value exceeds the U.S. price as indicated in the chart above. These instructions suspending liquidation will remain in effect until further notice. This determination is issued and published pursuant to sections 735(d) and 777(i)(1) of the Act.

Dated: May 13, 2004.
James J. Jochum,
Assistant Secretary for Import Administration.

[FR Doc. 04-11325 Filed 5-18-04; 8:45 am]

BILLING CODE 3510-DS-P